DEPARTMENT OF ENERGY

Federal Energy Regulatory Commission

[Docket No. RP00-298-000]

Kern River Gas Transmission Company; Notice of Proposed Changes in FERC Gas Tariff

May 26, 2000.

Take notice that on May 24, 2000, Kern River Gas Transmission Company (Kern River) tendered for filing as part of its FERC Gas Tariff, Second Revised Volume No. 1, the following tariff sheets:

Pro Forma Sheet No. 5

Pro Forma Sheet No. 6

First Revised Sheet No. 15

First Revised Sheet No. 71

First Revised Sheet No. 171

Original Sheet No. 186

Sheet Nos. 187-299 (Reserved)

Original Sheet Nos. 423-426

Sheet Nos. 427-499 (Reserved)

First Revised Sheet No. 501

First Revised Sheet No. 601

First Revised Sheet No. 701

First Revised Sheet No. 901

Kern River states that the purpose of this filing is to establish provisions in Kern River's tariff that will enable Kern River to offer transportation service under its existing firm rate schedules using different rate options that coincide with the length of contract terms and investment recovery periods underlying the capacity commitments of different groups of shippers. These proposed extended-term rates will be available under certain conditions to any firm shipper that extends the term of an existing transportation service agreement.

Kern River states that a copy of this filing has been served upon Kern River's customers and interested state regulatory commissions.

Any person desiring to be heard or to protest said filing should file a motion to intervene or a protest with the Federal Energy Regulatory Commission, 888 First Street, NE, Washington, DC 20426, in accordance with sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-208-2222 for assistance).

Linwood A. Watson, Jr.,
Acting Secretary.

[FR Doc. 00-13778 Filed 6-1-00; 8:45 am]

BILLING CODE 6717-01-M